DEPARTMENT OF COMMERCE

Minority Business Development Agency

White House Initiative on Asian Americans and Pacific Islanders, President's Advisory Commission on Asian Americans and Pacific Islanders

AGENCY: Minority Business Development Agency, Department of Commerce.

ACTION: Notice of public teleconference meeting.

SUMMARY: The President's Advisory Commission on Asian Americans and Pacific Islanders (Commission) will convene a teleconference meeting on April 23, 2007 to deliberate the draft Commission report to the President. This meeting is open to the public and interested persons may listen to the teleconference by using the call-in number and pass code provided below (see ADDRESSES).

DATES: Monday, April 23, 2007, beginning at 3:15 p.m. (EDT).

ADDRESSES: By telephone: Beginning at 3 p.m. (EDT) on Monday, April 23, 2007, members of the public may call 1-888-791-2132 and dial pass code 6105564 to access the teleconference. Advance registration is not required.

FOR FURTHER INFORMATION CONTACT: For information regarding the Commission, please contact Ms. Cianna Ferrer, Executive Assistant, Office of the White House Initiative on Asian Americans and Pacific Islanders, Minority Business Development Agency, U.S. Department of Commerce, 1401 Constitution Avenue, NW., Room 5612, Washington, DC 20230; telephone (202) 482-3949; facsimile (202) 501-6239; e-mail: info@aapi.gov. Note that any correspondence sent by regular mail may be substantially delayed or suspended in delivery, since all regular mail sent to the Department of Commerce is subject to extensive security screening.

SUPPLEMENTARY INFORMATION: In accordance with Section 10(a)(2) of the Federal Advisory Committee Act, as amended (5 U.S.C. App. 2), public announcement is made of the Commission's intent to convene a teleconference meeting on April 23, 2007. This meeting is open to the public and interested persons may listen to the teleconference by using the call-in number and pass code set forth above (see ADDRESSES). Advance registration is not required to access the teleconference.

Prospective agenda items for the meeting include a deliberation of the draft Commission report to the President, administrative tasks and such other Commission business as may arise during the course of the meeting. In addition, the Commission welcomes interested persons to submit written comments to the Office of the White House Initiative on Asian Americans and Pacific Islanders (see FOR FURTHER INFORMATION CONTACT) at any time before or after the meeting. To facilitate distribution of written comments to Commission members prior to the meeting, the Commission suggests that comments be submitted by facsimile or by e-mail no later than April 19, 2007. The Commission will not be receiving public comment during the meeting.

Dated: April 2, 2007.
Ronald N. Langston,
National Director, Minority Business Development Agency.

[FR Doc. E7-6420 Filed 4-5-07; 8:45 am]

BILLING CODE 3510-21-P